DEPARTMENT OF ENERGY

Federal Energy Regulatory Commission

[Docket No. RP-440-001]

Dominion Transmission, Inc.; Notice of Proposed Changes in FERC Gas Tariff

October 12, 2000.

Take notice that on October 5, 2000, Dominion Transmission, Inc. (Dominion), tendered for filing as part of its FERC Gas Tariff, Third Revised Volume No. 1, the following tariff sheets with a proposed effective date of September 23, 2000:

Substitute Original Sheet No. 1144

Substitute Original Sheet No. 1147

Substitute Original Sheet No. 1148

Substitute Original Sheet No. 1149

Substitute Original Sheet No. 1151

Substitute Original Sheet No. 1152

Substitute Original Sheet No. 1153

Dominion states that the purpose of this filing is to comply with the Commission's September 6, 2000 letter order, which required Dominion to refile Section 23.2.E. of its General Terms and Conditions to exempt prearranged releases for one year or more at the maximum rate from the posting and bidding requirements. Dominion also refiles certain tariff sheets to incorporate previously accepted tariff sheets regarding the elimination of the maximum rate ceiling for short-term capacity release transactions into its newly filed FERC Gas Tariff, Third Revised Volume No. 1.

Dominion states that copies of its filing have been served upon Dominion's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-26682 Filed 10-17-00; 8:45 am]

BILLING CODE 6717-01-M